NUCLEAR REGULATORY COMMISSION

[NRC-2014-0002]

Emergency Planning Exemption Requests for Decommissioning Nuclear Power Plants

AGENCY: Nuclear Regulatory Commission.

ACTION: Draft interim staff guidance; request for comment.

SUMMARY: The U.S. Nuclear Regulatory Commission (NRC) is soliciting public comment on its draft Interim Staff Guidance (ISG) NSIR/DPR-ISG-02, “Emergency Planning Exemption Requests for Decommissioning Nuclear Power Plants.” This document would provide guidance for NRC staff to ensure clear and consistent reviews of requests for exemptions from emergency preparedness regulations and license amendments for defueled station emergency plans submitted by nuclear power plant licensees after permanent cessation of plant operations. Nuclear power plants that have ceased operating and are permanently defueled provide less risk of radiological releases than operating nuclear power plants. Licensees of these decommissioning plants have historically submitted exemption requests based on this lower risk. The ISG also could be used by nuclear power plant licensees when drafting these exemption requests.

DATES: Submit comments by March 11, 2014. Comments received after this date will be considered if it is practical to do so, but the Commission is able to ensure consideration only for comments received before this date.

ADDRESSES: You may submit comment by any of the following methods (unless this document describes a different method for submitting comments on a specific subject):

• Federal Rulemaking Web site: Go to http://www.regulations.gov and search for Docket ID NRC-2014-0002. Address questions about NRC dockets to Carol Gallagher; telephone: 301-287-3422; email: Carol.Gallagher@nrc.gov. For technical questions, contact the individuals listed in the FOR FURTHER INFORMATION CONTACT section of this document.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Michael Wasem, telephone: 301-287-3793, email: michael.wasem@nrc.gov or Michael Norris, telephone: 301-287-3754, email: michael.norris@nrc.gov. Both of the Office of Nuclear Security and Incident Response, U.S. Nuclear Regulatory Commission, Washington, DC 20555-0001.

SUPPLEMENTARY INFORMATION:

I. Accessing Information and Submitting Comments

A. Accessing Information

Please refer to Docket ID NRC-2014-0002 when contacting the NRC about the availability of information regarding this document. You may access publicly-available information related to this action by the following methods:

• Federal Rulemaking Web site: Go to http://www.regulations.gov and search for Docket ID NRC-2014-0002.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. In addition, for the convenience of the reader, the ADAMS accession numbers are provided in a table in the section of this notice entitled, Availability of Documents.

• NRC's PDR: You may examine and purchase copies of public documents at the NRC's PDR, Room O1-F21, One White Flint North, 11555 Rockville Pike, Rockville, Maryland 20852.

B. Submitting Comments

Please include Docket ID NRC-2014-0002 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Availability of Documents

The documents identified in the following table are available to interested persons through one or more of the following methods, as indicated.

Document | ADAMS Accession No./web link/Federal Register citation
Draft Interim Staff Guidance (ISG) NSIR/DPR-ISG-02, “Emergency Planning Exemption Requests for Decommissioning Nuclear Power Plants” | ADAMS Accession No. ML13304B442.
NUREG-1738 “Technical Study of Spent Fuel Pool Accident Risk at Decommissioning Nuclear Power Plants” | ADAMS Accession No. ML010430066.
Draft Report, “Consequence Study of a Beyond-Design-Basis Earthquake Affecting the Spent Fuel Pool for a U.S. Mark I Boiling Water Reactor” | ADAMS Accession No. ML13133A132.
SECY-00-0145, “Integrated Rulemaking Plan for Nuclear Power Plant Decommissioning” | ADAMS Accession No. ML003721626.
NUREG/CR-6451, “A Safety and Regulatory Assessment of Generic BWR and PWR Permanently Shutdown Nuclear Power Plants” | ADAMS Accession No. ML082260098.
NUREG-1864, “A Pilot Probabilistic Risk Assessment of a Dry Cask Storage System at a Nuclear Power Plant” | ADAMS Accession No. ML071340012.
Memorandum dated August 16, 2002, “Status of Regulatory Exemptions for Decommissioning Plants” | ADAMS Accession No. ML030550706.
SECY-97-120, “Rulemaking Plan for Emergency Planning Requirements for Permanently Shutdown Nuclear Power Plant Sites” | http://www.nrc.gov/reading-rm/doc-collections/commission/secys/1997/secy1997-120/1997-120scy.pdf.

III. Background

Currently, licensees of permanently defueled nuclear power plant sites are required to maintain emergency plans meeting the same requirements as emergency plans for operating nuclear power plants. The NRC recognizes that in the plant's permanently defueled condition, the risk of a radiation release to the public is much less than the risk of a release from an operating plant and the consequences of a release are, in most cases, significantly less than that of an operating reactor. Rulemaking to address these differences, along with security and insurance considerations was considered in the 1990's. The events of September 11, 2001, and the fact that no plants were thought to be entering decommissioning in the immediate future led the NRC to suspend rulemaking activities. Licensees have historically used the exemption process to decrease the burden of maintaining required parts of emergency plans that are no longer necessary to contribute to the safety of workers or the public. This ISG consolidates findings from previous exemption request reviews and informs the justifications for approving exemptions with the results of more recent and complete studies. Use of this ISG should result in consistent and timely reviews of requests for exemption from certain emergency preparedness regulations.

The NRC staff is issuing this notice to solicit public comments on the proposed NSIR/DPR-ISG-02. After the NRC considers any public comments, it will issue a Federal Register notice making a determination regarding a final NSIR/DPR-ISG-02.

Dated at Rockville, Maryland, this 23rd day of December, 2013.
For the Nuclear Regulatory Commission.
Robert Lewis,
Director, Division of Preparedness and Response, Office of Nuclear Security and Incident Response.

[FR Doc. 2014-00249 Filed 1-9-14; 8:45 am]

BILLING CODE 7590-01-P